DEPARTMENT OF COMMERCE

National Oceanic and Atmospheric Administration

RIN 0648-XD534

Marine Fisheries Advisory Committee

AGENCY: National Marine Fisheries Service (NMFS), National Oceanic and Atmospheric Administration (NOAA), Commerce.

ACTION: Notice of open public meetings.

SUMMARY: This notice sets forth the schedule and proposed agenda of a forthcoming meeting of the Marine Fisheries Advisory Committee (MAFAC). The members will discuss and provide advice on issues outlined in the agenda below.

DATES: The meeting is scheduled for October 23, 2014, 4-5:30 p.m., Eastern Daylight Time.

ADDRESSES: The public meeting will be conducted by telephone. Public access is available at 1315 East-West Highway, Silver Spring, MD 20910.

FOR FURTHER INFORMATION CONTACT: Any member of the public wishing to attend the public teleconference may contact Heidi Lovett, (301) 427-8004; email: heidi.lovett@noaa.gov.

SUPPLEMENTARY INFORMATION: The MAFAC was established by the Secretary of Commerce (Secretary), and, since 1971, advises the Secretary on all living marine resource matters that are the responsibility of the Department of Commerce. The charter and other information are located online at http://www.nmfs.noaa.gov/ocs/mafac/.

Matters To Be Considered

The Committee is convening to discuss and finalize comments on the proposed rule for the Gulf of Mexico Aquaculture Plan for submission to the NOAA Fisheries Assistant Administrator and to consider other administrative matters. This agenda is subject to change.

Special Accommodations

These meetings are physically accessible to people with disabilities. Requests for sign language interpretation or other auxiliary aids should be directed to Heidi Lovett, 301-427-8004 by October 16, 2014.

Dated: October 2, 2014.
Eileen Sobeck,
Assistant Administrator for Fisheries, National Marine Fisheries Service.

[FR Doc. 2014-24049 Filed 10-7-14; 8:45 am]

BILLING CODE 3510-22-P